LIBRARY OF CONGRESS

U.S. Copyright Office

37 CFR Part 201

[Docket No. 2005-6]

Statutory Cable, Satellite, and DART License Reporting Practices

AGENCY: U.S. Copyright Office, Library of Congress.

ACTION: Clarification to final rule.

SUMMARY: This document clarifies the compliance date for certain reporting obligations issued in the U.S. Copyright Office's final rule governing the royalty reporting practices of cable operators, and the Statement of Account form and filing requirements.

DATES:

Effective date: February 28, 2025.

Compliance date: Compliance with reporting obligations published at 89 FR 100348, 100350 to 100356, is required as of the August 29, 2025, filing deadline.

FOR FURTHER INFORMATION CONTACT: Rhea Efthimiadis, Assistant to the General Counsel, by email at meft@copyright.gov, or by telephone at 202-707-8350.

SUPPLEMENTARY INFORMATION: On December 12, 2024, the Copyright Office (“Office”) published a final rule in the Federal Register at 89 FR 100348 regarding the Statement of Account (“SOA”) requirements for cable operators pursuant to section 111 of Title 17. Among other things, the rule clarified and adjusted certain information required to be reported on the biannual SOAs, which relate to the calculation of royalties required to be paid to the Office for subsequent distribution to copyright owners. The rule anticipated the creation of a new SOA form by the Office, which is in progress, as well as new instructions for completion of the SOA to reflect changes in the rule. The Office has determined that the new form will not be available prior to the upcoming filing deadline of March 1, 2025 and that the instructions that would permit use of the existing forms consistent with the rule are not yet available. Accordingly, the Office is adjusting its compliance requirement regarding the final rule's reporting obligations ¹ to apply to the SOA due on August 29, 2025, which covers the January 1 through June 30, 2025, accounting period.

¹ See 89 FR at 100350-56.

Shira Perlmutter,
Register of Copyrights and Director of the U.S. Copyright Office.
Approved by:
Carla D. Hayden,
Librarian of Congress.

[FR Doc. 2025-03173 Filed 2-27-25; 8:45 am]

BILLING CODE 1410-30-P